DEPARTMENT OF ENERGY

Federal Energy Regulatory Commission

Combined Notice of Filings

Take notice that the Commission has received the following Natural Gas Pipeline Rate and Refund Report filings:

Filings Instituting Proceedings

Docket Number: PR17-43-000.

Applicants: Columbia Gas of Maryland, Inc.

Description: Tariff filing per 284.123(b),(e)/: CMD SOC Rates effective May 1 2017; Filling Type: 980.

Filed Date: 5/10/17.

Accession Number: 201705105066.

Comments/Protests Due: 5 p.m. ET5/31/17.

Docket Numbers: RP12-609-000.

Applicants: Texas Gas Transmission, LLC.

Description: Report Filing: 2016 Operational Purchases and Sales Report.

Filed Date: 5/1/17.

Accession Number: 20170501-5134.

Comments Due: 5 p.m. ET 5/24/17.

Docket Numbers: RP13-212-000.

Applicants: Boardwalk Storage Company, LLC.

Description: Report Filing: 2016 Operational Purchases and Sales Report.

Filed Date: 5/1/17.

Accession Number: 20170501-5135.

Comments Due: 5 p.m. ET 5/24/17.

Docket Numbers: RP17-748-000.

Applicants: Southeast Supply Header, LLC.

Description: § 4(d) Rate Filing: Scheduling and Curtailment Cleanup to be effective 6/17/2017.

Filed Date: 5/17/17.

Accession Number: 20170517-5037.

Comments Due: 5 p.m. ET 5/30/17.

Docket Numbers: RP17-749-000.

Applicants: Anadarko Energy Services Company, AVAD Operating, LLC.

Description: Joint Petition of Anadarko Energy Services Company and AVAD Operating, LLC for Temporary Waivers of Capacity Release Regulations and Policies, and Request for Shortened Comment Period and Expedited Treatment.

Filed Date: 5/17/17.

Accession Number: 20170517-5097.

Comments Due: 5 p.m. ET 5/24/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2017.
Kimberly D. Bose,
Secretary.

[FR Doc. 2017-10857 Filed 5-25-17; 8:45 am]

BILLING CODE 6717-01-P